DEPARTMENT OF TRANSPORTATION

Coast Guard

33 CFR Part 66

[USCG 2000-7466]

RIN 2115-AF98

Allowing Alternatives to Incandescent Light in Private Aids to Navigation

AGENCY: Coast Guard, DOT.

ACTION: Direct final rule.

SUMMARY: The Coast Guard is removing the requirement to use only tungsten-incandescent lighting for private aids to navigation. It will enable private industry and owners of private aids to navigation to take advantage of recent changes in lighting technology-specifically to use lanterns based on light-emitting diodes (LEDs). The greater flexibility will reduce the consumption of power and simplify the maintenance of private aids to navigation.

DATES: This direct final rule is effective January 3, 2001, unless a written adverse comment, or written notice of intent to submit one, reaches the Docket Management Facility on or before December 4, 2000. If an adverse comment, or notice of intent to submit one, does reach the Facility on or before then, the Coast Guard will withdraw this rule and publish a timely notice of withdrawal in the Federal Register.

ADDRESSES: You may mail your comments or notices of intent to submit them to the Docket Management Facility [USCG 2000-7466], U.S. Department of Transportation, room PL-401, 400 Seventh Street SW., Washington DC 20590-0001, or deliver them to room PL-401 on the Plaza level of the Nassif Building at the same address between 10 a.m. and 5 p.m., Monday through Friday, except Federal holidays. The telephone number is 202-366-9329.

The Docket Management Facility maintains the public docket for this rulemaking. Comments, and documents as indicated in this preamble, will become part of this docket and will be available for inspection or copying at room PL-401 on the Plaza level of the Nassif Building at the same address between 10 a.m. and 5 p.m., Monday through Friday, except Federal holidays. You may also access this docket on the Internet at http://dms.dot.gov.

FOR FURTHER INFORMATION CONTACT: For questions on this direct final rule, call Dan Andrusiak, G-OPN-2, Coast Guard, telephone 202-267-0327. For questions on viewing or submitting material to the docket, call Dorothy Beard, Chief of Dockets, Department of Transportation, telephone 202-366-9329.

SUPPLEMENTARY INFORMATION:

Request for Comments

The Coast Guard encourages interested persons to participate in this rulemaking by submitting written data, views, or arguments. Persons submitting comments should include their names and addresses, identify this rulemaking [USCG 2000-7466] and the specific section of this document to which each comment applies, and give the reason for each comment. Please submit all comments and attachments in an unbound format, no larger than 8½ by 11 inches, suitable for copying and electronic filing to the Docket Management Facility at the address under ADDRESSES. Persons wanting acknowledgment of receipt of comments should enclose stamped self-addressed postcards or envelopes.

Regulatory Information

The Coast Guard is publishing a direct final rule, the procedures for which appear in 33 CFR 1.05-55, because it anticipates no adverse comment. If no adverse comment or written notice of intent to submit one reaches the Docket Management Facility within the comment period specified in DATES, this rule will become effective as indicated. In that case, about 30 days before the effective date, the Coast Guard will publish a document in the Federal Register indicating that it received no adverse comment or written notice of intent to submit one and confirming that this rule will become effective as scheduled. However, if the Coast Guard receives a written adverse comment or written notice of intent to submit one, it will publish a document in the Federal Register announcing withdrawal of all or part of this rule (e.g., an amendment, a paragraph, or a section). If an adverse comment applies to only part of this rule and if removal of that part is possible without defeating the purpose of this rule, the Coast Guard may adopt as final those parts of this rule unaffected by the comment and withdraw the others. If the Coast Guard decides to proceed with a rulemaking following receipt of an adverse comment, it will publish a separate Notice of Proposed Rulemaking (NPRM) and provide a new opportunity for comment.

A comment is considered “adverse” if it explains why this rule would be inappropriate; including a challenge to the rule's underlying premise or approach, or why it would be ineffective or unacceptable without a change.

Background and Purpose

The Marine Safety Council of the Coast Guard recommended this rulemaking. The intent of the rule is to reduce the consumption of power and simplify the maintenance of private aids to navigation by allowing for the use of lanterns based on LEDs as well as on tungsten-incandescent lights.

Discussion of Rule

The Coast Guard will allow private industry and owners of private aids to navigation to take advantage of recent changes in lighting technology—specifically the use of lanterns based on LEDs.

Regulatory Evaluation

This direct final rule is not a significant regulatory action under section 3(f) of Executive Order 12866 and does not require an assessment of potential costs and benefits under section 6(a)(3) of that Order. It has not been reviewed by the Office of Management and Budget under that Order. It is not significant under the regulatory policies and procedures of the Department of Transportation (DOT) [44 FR 11040 (February 26, 1979)]. The Coast Guard expects the economic impact of this rule to be so minimal that a full Regulatory Evaluation under paragraph 10e of the regulatory policies and procedures of DOT is not necessary.

Cost of Rule

This direct final rule would not impose any costs on the public. While it permits the use of lanterns based on LEDs as well as tungsten-incandescent lights, it does not require it.

Manufacturers of tungsten-incandescent lights also provide LED lights. This rule would not impose any costs on these manufacturers; it would instead expand a market for the LED lights they are already manufacturing.

Small Entities

Under the Regulatory Flexibility Act [5 U.S.C. 601 et seq.], the Coast Guard considered whether this direct final rule would have a significant economic impact on a substantial number of small entities. “Small entities” include small businesses, not-for-profit organizations that are independently owned and operated and are not dominant in their fields, and governmental jurisdictions with populations of less than 50,000. The Small Business Administration (SBA) has set up size standards for each SIC code based on the number of employees or annual receipts. The only type of small entity that this rule would affect would be small businesses.

The Coast Guard performed a survey of the industry, and discovered that there are currently two major U.S. manufacturers of tungsten-incandescent lights used for aids to navigation. One of them is considered small by the size standards set up by the SBA. However, the impact of this rule would be positive because it would open new markets for other small business manufacturers who currently possess LED technology.

Therefore, the Coast Guard certifies under 5 U.S.C. 605(b) that this rule would not have a significant economic impact on a substantial number of small entities. It will evaluate comments submitted in response to this finding under the criteria in Regulatory Information.

Assistance for Small Entities

Under section 213(a) of the Small Business Regulatory Enforcement Fairness Act of 1996 [Pub. L. 104-121], we want to assist small entities in understanding this direct final rule so that they can better evaluate its effect on them and participate in the rulemaking. If the rule would affect your small business, organization, or governmental jurisdiction and you have questions concerning its provisions or options for compliance, please call Dan Andrusiak, G-OPN-2, Coast Guard, telephone 202-267-0327.

Collection of Information

This direct final rule would call for no new collection of information under the Paperwork Reduction Act of 1995 [44 U.S.C. 3501-3520].

Federalism

The Coast Guard has analyzed this direct final rule under the principles and criteria contained in Executive Order 12612 and has determined that this rule does not have sufficient implications for federalism to warrant the preparation of a Federalism Assessment.

Environment

The Coast Guard considered the environmental impact of this direct final rule and concluded that, under figure 2-1, paragraph (34)(i) of Commandant Instruction M16475.1C, this rule is categorically excluded from further environmental documentation. A Determination of Categorical Exclusion is available in the docket for inspection or copying where indicated under ADDRESSES.

List of Subjects in 33 CFR Part 66

Navigation (water).

For the reasons discussed in the preamble, the Coast Guard amends 33 CFR Part 66 as follows:

1. The citation of authority continues to read as follows:

Authority: 14 U.S.C. 83, 85; 43 U.S.C. 1333; 49 CFR 1.46.

2. Section 66.01-10 is revised to read as follows:

§ 66.01-10 Characteristics.

The characteristics of a private aid to navigation must conform to the United States Aids to Navigation System described in subpart B of Part 62 of this subchapter, except that the Coast Guard will approve both tungsten-incandescent lights and light-emitting diodes (LEDs) with a flash length of at least 0.2 seconds, as sources of light for electric lanterns.

Dated: September 26 2000.
Kenneth T. Venuto,
U.S. Coast Guard, Acting Assistant Commandant for Operations.

[FR Doc. 00-25484 Filed 10-3-00; 8:45 am]

BILLING CODE 4910-15-P